DEPARTMENT OF HEALTH AND HUMAN SERVICES

Centers for Disease Control and Prevention

[60Day-23-23AX; Docket No. CDC-2022-0132]

Proposed Data Collection Submitted for Public Comment and Recommendations

AGENCY: Centers for Disease Control and Prevention (CDC), Department of Health and Human Services (HHS).

ACTION: Notice with comment period.

SUMMARY: The Centers for Disease Control and Prevention (CDC), within the Department of Health and Human Services, as part of its continuing effort to reduce public burden and maximize the utility of government information, invites the general public and other federal agencies the opportunity to comment on a proposed information collection, as required by the Paperwork Reduction Act of 1995. This notice invites comment on a proposed information collection project titled Assessing Knowledge, Attitudes, and Practices (KAPs) of Hispanic/Latina Women of Reproductive Age about Folic Acid Fortification and Supplementation. The data collection will involve focus groups of Hispanic/Latina populations to understand knowledge, awareness, and practices about use of folic acid and fortified food for neural tube defect (NTD) prevention.

DATES: CDC must receive written comments on or before January 23, 2023.

ADDRESSES: You may submit comments, identified by Docket No. CDC-2022-0132 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of an existing collection of information, and each reinstatement of a previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Assessing Knowledge, Attitudes, and Practices (KAPs) of Hispanic/Latina Women of Reproductive Age (WRA) about Folic Acid Fortification and Supplementation—New—National Center on Birth Defects and Developmental Disabilities (NCBDDD), Centers for Disease Control and Prevention (CDC).

Background and Brief Description

A contemporary understanding of cultural factors in the decision-making process and how certain populations of women obtain information is needed for Hispanic/Latina women of reproductive age (WRA) to increase their knowledge and intake of folic acid to prevent neural tube defects (NTD).

Previous research highlighted important nuances in potential cultural beliefs regarding folic acid. A study of Spanish-speaking, Hispanic/Latina women in the southwest United States found no cultural barriers to incorporating folic-acid rich foods into their diets; however, focus groups of Mexican-American women within the study found several cultural barriers. These included: misperception of the term folic acid as an illegal substance (as the word “acid” is sometimes used to describe the drug LSD); the importance of folic acid in preventing NTDs since their healthcare providers did not talk to them about folic acid; the absence of folic acid in injectable form at the pharmacy; and mistaken beliefs that birth defects are not preventable (resulting from an act of God). Other studies also present contradictory findings suggesting that Spanish-speaking, Mexican-American women have increased awareness of the association between folate and birth defects compared to English-speaking, Mexican-American women. Although several studies have examined beliefs and best practices for promoting folic acid consumption, more research is needed to determine cultural factors in the decision-making process around folic acid intake for Hispanic/Latina WRA.

The objective of this project is to conduct formative research with Hispanic/Latina WRA and leadership from key organizations that serve Hispanic/Latina populations to understand the following: (1) knowledge and awareness about folic acid and fortified food for NTD prevention; (2) practices around consumption of fortified foods as well as traditional food items that may or may not be fortified and supplement use; and (3) appropriate messages and dissemination channels to improve folic acid intake from supplements and folic acid fortified foods among Hispanic/Latina WRA.

This information collection will involve focus groups with Hispanic/Latina WRA. CDC requests OMB approval for an estimated 63 annual burden hours. There are no costs to respondents other than their time to participate.

Estimated Annualized Burden Hours
Type of respondents | Form name | Number of respondents | Number of responses per respondent | Average burden per response (in hours) | Total burden (in hours)
Hispanic/Latina Women of Reproductive Age (WRA) | Knowledge, Attitudes, and Practices (KAPs) of Hispanic/Latina WRA: Focus Group Moderator Guide | 63 | 1 | 1 | 63
Total |  |  |  |  | 63

Jeffrey M. Zirger,
Lead, Information Collection Review Office, Office of Scientific Integrity, Office of Science, Centers for Disease Control and Prevention.

[FR Doc. 2022-25400 Filed 11-21-22; 8:45 am]

BILLING CODE 4163-18-P